DEPARTMENT OF LABOR

Employment and Training Administration

[TA-W-56,688]

Lands' End, a Subsidiary of Sears Roebuck and Company, Business Outfitters Cad Operations, Dodgeville, WI; Notice of Affirmative Determination Regarding Application for Reconsideration

By application of April 24, 2005, petitioners requested administrative reconsideration of the Department's negative determination regarding eligibility for workers and former workers of the subject firm to apply for Trade Adjustment Assistance (TAA) and Alternative Trade Adjustment Assistance (ATAA). The determination was signed on March 25, 2005 and the Notice of determination was published in the Federal Register on May 2, 2005 (70 FR 22710).

The Department carefully reviewed the petitioners' request for reconsideration and has determined that the Department will conduct further investigation based on new information provided.

Conclusion

After careful review of the application, I conclude that the claim is of sufficient weight to justify reconsideration of the Department of Labor's prior decision. The application is, therefore, granted.

Signed at Washington, DC, this 6th day of June 2005.
Elliott S. Kushner,
Certifying Officer, Division of Trade Adjustment Assistance.

[FR Doc. E5-3166 Filed 6-17-05; 8:45 am]

BILLING CODE 4510-30-P